DEPARTMENT OF HEALTH AND HUMAN SERVICES

Administration on Aging

[Program Announcement No. AoA-02-11]

Fiscal Year 2002 Program Announcement; Availability of Funds and Notice Regarding Applications

AGENCY: Administration on Aging, HHS.

ACTION: Announcement of availability of funds and request for applications.

SUMMARY: The Administration on Aging announces that under this program announcement it will hold a competition for a grant award for one project at a federal share of approximately $100,000 per year for a project period of one year.

Legislative authority: The Older Americans Act, Public Law 106-501 (Catalog of Federal Domestic Assistance 93.048, Title IV and Title II Discretionary Projects).

Purpose of grant awards: The purpose of the project is to support the development of an action plan to raise osteoporosis awareness in post-menopausal women. The grant will assist AoA in the development and implementation of effective strategies to raise awareness about osteoporosis in post-menopausal women.

Eligibility for grant awards and other requirements: Eligibility to apply under this announcement is limited to applications from public and non-profit organizations, including Indian tribes, tribal organizations, tribal faith groups, faith-based and community-based organizations, with demonstrated expertise in osteoporosis education and awareness.

Grantees are required to provide a 25% non-federal match.

DATES: The deadline date for the submission of applications is September 16, 2002.

ADDRESSES: Application kits are available by writing to the U.S. Department of Health and Human Services, Administration on Aging, Center for Communication and Consumer Services, 330 Independence Ave., SW., Washington, DC 20201, Attn: Sherri Clark, or by calling 202/619-3955. Applications must be mailed or hand-delivered to the Office of Grants Management at the same address. Instructions for electronic mailing of grant applications are available at http://www.aoa.gov/egrants.

Dated: July 29, 2002.
Josefina G. Carbonell,
Assistant Secretary for Aging.

[FR Doc. 02-19505 Filed 8-1-02; 8:45 am]

BILLING CODE 4154-01-P